DEPARTMENT OF HEALTH AND HUMAN SERVICES

Administration for Children and Families

Proposed Information Collection Activity; Comment Request

Title: Job Search Assistance (JSA) Strategies Evaluation.

OMB No.: 0970-0440.

Description: The Administration for Children and Families (ACF) is proposing a data collection activity as part of the Job Search Assistance (JSA) Strategies Evaluation. The JSA evaluation aims to determine which JSA strategies are most effective in moving TANF applicants and recipients into work. The impact study will randomly assign individuals to contrasting JSA approaches and then compare their employment and earnings to determine their relative effectiveness. The implementation study will describe services participants receive under each approach as well as provide operational lessons gathered directly from practitioners.

Data collection efforts previously approved for JSA, include: Data collection activities to document program implementation, a staff survey and a baseline information form for program participants. These collection activities will continue with this new request.

This Federal Register Notice provides the opportunity to comment on a proposed new information collection activity for JSA: A follow-up survey for JSA participants approximately 6 months after program enrollment. The purpose of the survey is to follow-up with study participants and document their job search assistance services and experiences including their receipt of job search assistance services, their knowledge and skills for conducting a job search, the nature of their job search process, including tools and services used to locate employment, and their search outputs and outcomes, such as the number of applications submitted, interviews attended, offers received and jobs obtained. In addition, the survey will provide an opportunity for respondents to provide contact data for possible longer-term follow-up.

Respondents: JSA study participants and program staff.

Annual Burden Estimates

Extension of Previously Approved Information Collections
Instrument | Total number of respondents | Annual number of respondents | Number of responses per respondent | Average burden hours per response | Annual burden hours
Baseline Information Form | 6,400 | 3,200 | 1 | .2 | 640
Implementation Study Site Visits | 600 | 300 | 1 | 1 | 300
JSA Staff Survey | 440 | 220 | 1 | .33 | 73

Proposed New Information Collections
Instrument | Total number of respondents | Annual number of respondents | Number of responses per respondent | Average burden hours per response | Annual burden hours
6 Month Follow-Up Survey | 6,400 | 3,200 | 1 | .333 | 1,066
Contact Update Form | 6,400 | 3,200 | 11 | .033 | 1,162

Estimated Total Annual Burden Hours: 3,241.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2015-17264 Filed 7-14-15; 8:45 am]

BILLING CODE 4184-01-P